DEPARTMENT OF HEALTH AND HUMAN SERVICES

National Institutes of Health

Center for Scientific Review; Amended Notice of Meeting

Notice is hereby given of a change in the meeting of the Cellular and Molecular Immunology—B Study Section, March 19, 2020, 8:00 a.m. to March 20, 2020, 6:00 p.m., at the William F. Bolger Center, 9600 Newbridge Drive, Potomac, MD which was published in the Federal Register on February 20, 2020, 85 FR 9791.

Meeting location is being changed to National Institutes of Health, 6701 Rockledge Drive, Bethesda, MD 20892. The meeting format is being changed to a Video Assisted Meeting. Meeting time and date stay the same. The meeting is closed to the public.

Dated: March 11, 2020.
Miguelina Perez,
Program Analyst, Office of Federal Advisory Committee Policy.

[FR Doc. 2020-05423 Filed 3-16-20; 8:45 am]

BILLING CODE 4140-01-P